DEPARTMENT OF COMMERCE

National Oceanic and Atmospheric Administration

Submission for OMB Review; Comment Request

The Department of Commerce will submit to the Office of Management and Budget (OMB) for clearance the following proposal for collection of information under the provisions of the Paperwork Reduction Act.

Agency: National Oceanic and Atmospheric Administration (NOAA).

Title: Alaska Chinook Salmon Economic Data Report.

OMB Control Number: 0648-0633.

Form Number(s): None.

Type of Request: Regular (extension of a currently approved information collection).

Number of Respondents: 117.

Average Hours per Response: 40 hours for Compensated Transfer Report; 4 hours each for Vessel Fuel Survey, Vessel Master Survey; and Chinook EDR Verification/Audit.

Burden Hours: 728.

Needs and Uses: This request is for extension of a currently approved information collection.

National Marine Fisheries Service (NMFS) manages the Bering Sea pollock fishery under the American Fisheries Act (AFA) (16 U.S.C. 1851). AFA fishing vessels harvest pollock in the Bering Sea pollock fishery using pelagic (mid-water) trawl gear, which consists of large nets towed through the water by the vessel. At times, Chinook salmon and pollock occur in the same locations in the Bering Sea; consequently, Chinook salmon are incidentally caught in the nets as pollock is harvested. This incidental catch is called bycatch and is also called prohibited species catch (PSC).

The Chinook Salmon Economic Data Report (Chinook Salmon EDR) Program provides NMFS and the North Pacific Fishery Management Council (Council) with data to evaluate the effectiveness of Chinook salmon bycatch management measures for the Bering Sea pollock fishery that were implemented under Amendment 91 to the Fishery Management Plan for Groundfish of the Bering Sea and Aleutian Islands Management Area (75 FR 53026, August 30, 2010). The EDR consists of three data collections that are submitted annually by owners and operators of catcher vessels, catcher/processors, motherships, and the Western Alaska Community Development Quota Program groups qualified to participate in the Bering Sea pollock fishery (50 CFR 679.65). The Chinook Salmon EDR Program also includes a means for NMFS to verify the data submitted in these three collections.

NMFS and the Council use the information to determine the effectiveness of the Incentive Plan Agreement (IPA), the IPA incentives, the PSC limits, and the performance standard in terms of minimizing salmon bycatch in times of high and low levels of salmon abundance. NMFS and the Council also use the data to evaluate how Amendment 91 affects where, when, and how pollock fishing and salmon bycatch occur and to study and verify conclusions drawn by industry in the IPA annual reports.

Affected Public: Business or other for-profit organizations.

Frequency: Annually.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: April 24, 2018.
Sarah Brabson,
NOAA PRA Clearance Officer.

[FR Doc. 2018-08937 Filed 4-26-18; 8:45 am]

BILLING CODE 3510-22-P